NUCLEAR REGULATORY COMMISSION

[Docket No. 72-17; NRC-2017-0178]

Portland General Electric Company; Trojan Independent Spent Fuel Storage Installation

AGENCY: Nuclear Regulatory Commission.

ACTION: Environmental assessment and finding of no significant impact; issuance.

SUMMARY: The U.S. Nuclear Regulatory Commission (NRC) is considering the renewal of Special Nuclear Materials (SNM) License SNM-2509 for the Trojan Nuclear Plant Independent Spent Fuel Storage Installation (ISFSI) (Trojan ISFSI) located in Columbia County, Oregon. The NRC has prepared an environmental assessment (EA) for this proposed license renewal in accordance with its regulations. Based on the EA, the NRC has concluded that a finding of no significant impact (FONSI) is appropriate. The NRC also is conducting a safety evaluation of the proposed license renewal.

DATES: The EA and FONSI referenced in this document are available on July 8, 2019.

ADDRESSES: Please refer to Docket ID NRC-2017-0178 when contacting the NRC about the availability of information regarding this document. You may obtain publicly-available information related to this document using any of the following methods:

• Federal Rulemaking website: Go to https://www.regulations.gov/ and search for Docket ID NRC-2017-0178. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jean Trefethen, Office of Nuclear Material Safety and Safeguards, U.S. Nuclear Regulatory Commission, Washington, DC 20555-0001; telephone: 301-415-0867, email: Jean.Trefethen@nrc.gov.

SUPPLEMENTARY INFORMATION:

I. Introduction

The NRC is considering a license renewal request for SNM-2509 for the Trojan specifically-licensed ISFSI located in Columbia County, Oregon (ADAMS Accession No. ML17086A039). The applicant, Portland General Electric Company (PGE), is requesting to renew license SNM-2509 for the Trojan ISFSI for an additional 40-year period. The current license expired on March 31, 2019. PGE submitted the license renewal application in accordance with paragraphs 72.42(b) and (c) of title 10 of the Code of Federal Regulations (10 CFR). Accordingly, the NRC considers the license in timely renewal. If approved, PGE would be able to continue to possess and store spent nuclear fuel at the Trojan ISFSI in accordance with the requirements in 10 CFR part 72, “Licensing Requirements for the Independent Storage of Spent Nuclear Fuel, High-Level Radioactive Waste, and Reactor-Related Greater than Class C Waste.”

The NRC staff has prepared a final EA as part of its review of this license renewal request in accordance with the requirements of 10 CFR part 51, “Environmental Protection Regulations for Domestic Licensing and Related Regulatory Functions.” Based on the final EA, the NRC has determined that an environmental impact statement (EIS) is not required for this proposed action and a FONSI is appropriate. The NRC is also conducting a safety evaluation of the proposed license amendment pursuant to 10 CFR part 72 and the results will be documented in a separate Safety Evaluation Report (SER). If PGE's request is approved, the NRC will issue the license renewal following publication of this final EA and FONSI and the SER in the Federal Register.

II. Final Environmental Assessment Summary

PGE is requesting to renew the Trojan specifically-licensed ISFSI for a 40-year period. The NRC has assessed the potential environmental impacts of the proposed action and alternatives to the proposed action, including license renewal for an additional 20-year term, shipment of spent fuel to an offsite facility, and the no-action alternative. The results of the NRC's environmental review can be found in the final EA (ADAMS Accession No. ML19058A264). The NRC staff performed its environmental review in accordance with the requirements in 10 CFR part 51. In conducting the environmental review, the NRC considered information in the license renewal application; communications and consultation with the Oregon State Historic Preservation Office; the Chehalis, Grand Ronde, and Yakama Native American Tribes; the Portland Field Office of the U.S. Fish and Wildlife Service; and the Oregon Health Authority.

Approval of PGE's proposed license renewal request would allow the 34 Holtec International Multipurpose Canisters to continue to remain in the Trojan ISFSI for an additional 40 years. Specifically, the estimated annual dose to the nearest potential member of the public from ISFSI activities is 0.023 mSv/yr (2.3 mrem/yr) (PGE, 2017a), which is below the 0.25 mSv/yr (25 mrem/yr) limit specified in 10 CFR 72.104(a) and the 1 mSv/yr (100 mrem/yr) limit in 10 CFR 20.1301(a)(1). Furthermore, PGE maintains a radiation protection program for the ISFSI in accordance with 10 CFR part 20 to ensure that radiation doses are as low as is reasonable achievable (ALARA). Accordingly, no significant radiological or non-radiological impacts are expected to result from approval of the license renewal request, and the proposed action would not significantly contribute to cumulative impacts at the Trojan site. Additionally, there would be no disproportionately high and adverse impacts on minority and low-income populations.

In its license renewal request, PGE is proposing no changes in how it handles or stores spent fuel at the Trojan ISFSI. Approval of the proposed action would not result in any new construction or expansion of the existing ISFSI footprint beyond that previously approved. The ISFSI is a largely passive facility that produces no liquid or gaseous effluents. No significant radiological or nonradiological impacts are expected from continued normal operations. Occupational dose estimates associated with the proposed action and continued normal operation and maintenance of the ISFSI are expected to be at ALARA levels and within the limits of 10 CFR 20.1201. Therefore, the NRC staff has determined that pursuant to 10 CFR 51.31, preparation of an EIS is not required for the proposed action, and pursuant to 10 CFR 51.32, a FONSI is appropriate.

Furthermore, the NRC staff determined that this license renewal request does not have the potential to cause effects on historic properties, assuming those were present; therefore, in accordance with 36 CFR 800.3(a)(1), no consultation is required under Section 106 of the National Historic Preservation Act. The NRC staff, however, reached out to and informed the Oregon State Historic Preservation Officer (SHPO) via letter dated August 17, 2017 (ADAMS Accession No. ML17214A072) and the Chehalis, Grand Ronde and Yakama Native American Tribes of its determination via letters dated August 29, 2017 (ADAMS Accession Nos. ML17219A064, ML17219A065, and ML17219A066, respectively). The Grand Ronde tribe responded that there are recorded cultural resources in the vicinity of the Trojan ISFSI (ADAMS Accession No. ML17284A237); however, NRC staff expects there to be no impact to these resources as the licensee has no plans for construction activities and routine operations are largely passive. The NRC staff also consulted with the U.S. Fish and Wildlife Service (FWS) in accordance with Section 7 of the Endangered Species Act.

III. Finding of No Significant Impact

Based on its review of the proposed action in the EA, in accordance with the requirements in 10 CFR part 51, the NRC has concluded that the proposed action, renewal of NRC Special Nuclear Materials License No. SNM-2509 for the Trojan ISFSI located in Columbia County, Oregon, will not significantly affect the quality of the human environment. Therefore, the NRC has determined, pursuant to 10 CFR 51.31, that preparation of an EIS is not required for the proposed action and a finding of no significant impacts is appropriate.

Dated at Rockville, Maryland, this 1st day of July 2019.
For the Nuclear Regulatory Commission.
Kathryn M. Brock,
Acting Director, Division of Fuel Cycle Safety, Safeguards, and Environmental Review, Office of Nuclear Material Safety and Safeguards.

[FR Doc. 2019-14397 Filed 7-5-19; 8:45 am]

BILLING CODE 7590-01-P